DEPARTMENT OF TRANSPORTATION

Maritime Administration

[Docket No. MARAD-2021-0185]

Request for Comments of a Previously Approved Information Collection: Procedures for Determining Vessel Services Categories for Purposes of the Cargo Preference Act

AGENCY: Maritime Administration, Transportation (DOT).

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on May 21, 2021.

DATES: Comments must be submitted on or before September 16, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jim Mead, (202) 366-5723, Office of Cargo and Commercial Sealift, U.S. Department of Transportation, 1200 New Jersey Avenue SE, Washington, DC 20590.

SUPPLEMENTARY INFORMATION: Title: Procedures for Determining Vessel Services Categories for Purposes of the Cargo Preference Act.

OMB Control Number: 2133-0540.

Type of Request: Renewal of a Previously Approved Information Collection.

Background: The purpose is to provide information to be used in the designation of service categories of individual vessels for purposes of compliance with the Cargo Preference Act under a Memorandum of Understanding entered into by the U.S. Department of Agriculture, U.S. Agency for International Development, and the Maritime Administration. MARAD will use the data submitted by vessel operators to create a list of Vessel Self-Designations and determine whether MARAD agrees or disagrees with a vessel owner's designation of a vessel.

Respondents: Owners or operators of U.S.-registered vessels and foreign-registered vessels.

Affected Public: Business Owners for Profits.

Total Estimated Number of Responses: 200.

Frequency of Collection: Annually.

Estimated time per Respondent: .25.

Total Estimated Number of Annual Burden Hours: 50.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

By Order of the Acting Maritime Administrator.
T. Mitchell Hudson, Jr.,
Secretary, Maritime Administration.

[FR Doc. 2021-17591 Filed 8-16-21; 8:45 am]

BILLING CODE P